DEPARTMENT OF THE INTERIOR

Bureau of Indian Affairs

25 CFR Chapter I

No Child Left Behind School Facilities and Construction Negotiated Rulemaking Committee

AGENCY: Bureau of Indian Affairs, Interior.

ACTION: Notice of meeting.

SUMMARY: In accordance with the Federal Advisory Committee Act, the Bureau of Indian Affairs is announcing that the No Child Left Behind School Facilities and Construction Negotiated Rulemaking Committee will hold its sixth meeting in Albuquerque, New Mexico. The purpose of the meeting is to continue working on reports and recommendations to Congress and the Secretary as required under the No Child Left Behind Act of 2001.

DATES: The Committee's sixth meeting will begin at 8 a.m. on April 27, 2011, and end at 12 p.m. on April 29, 2011.

ADDRESSES: The meeting will be held at the National Indian Program Training Center, second floor, 1011 Indian School Road, NW., Albuquerque, New Mexico 87104.

FOR FURTHER INFORMATION CONTACT: The Designated Federal Official, Michele F. Singer, Director, Office of Regulatory Affairs and Collaborative Action, Office of the Assistant Secretary—Indian Affairs, 1001 Indian School Road, NW., Suite 312, Albuquerque, NM 87104; telephone (505) 563-3805; fax (505) 563-3811.

SUPPLEMENTARY INFORMATION: The No Child Left Behind School Facilities and Construction Negotiated Rulemaking Committee was established to prepare and submit to the Secretary a catalog of the conditions at Bureau-funded schools, and to prepare reports covering: The school replacement and new construction needs at Bureau-funded school facilities; a formula for the equitable distribution of funds to address those needs; a list of major and minor renovation needs at those facilities; and a formula for equitable distribution of funds to address those needs. The reports are to be submitted to Congress and to the Secretary. The Committee also expects to draft proposed regulations covering construction standards for heating, lighting, and cooling in home-living (dormitory) situations.

The following items will be on the agenda:

• Review and approve February 2011 meeting summary;

• Reach consensus on unresolved issues in the draft report;

• Finalize draft report language and prepare for tribal consultation;

• Agree on a schedule, standard agenda and presentation material for tribal consultation sessions;

• Discuss and clarify next steps for synthesizing and sharing comments received from tribal consultation and highlighting key topics for final committee meeting; and

• Public comments.

Written comments may be sent to the Designated Federal Official listed in the FOR FURTHER INFORMATION CONTACT section above. All meetings are open to the public; however, transportation, lodging, and meals are the responsibility of the participating public.

Dated: April 5, 2011.
Paul Tsosie,
Chief of Staff, Assistant Secretary—Indian Affairs.

[FR Doc. 2011-8649 Filed 4-11-11; 8:45 am]

BILLING CODE 4310-W7-P